DEPARTMENT OF HEALTH AND HUMAN SERVICES

National Institutes of Health

Proposed Collection; Comment Requested; Outcome Evaluation of the Small Grants Program for Behavioral Research in Cancer Control

Summary: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection:

Title: Outcome Evaluation of the Small Grants Program for Behavioral Research in Cancer Control.

Type of Information Collection Request: New.

Need and Use of Information Collection: The Small Grants Program support projects that can be completed in a short period of time, such as pilot projects, development and testing of new methodologies, secondary data analyses, or innovative studies that provide a basis for more extended research. This evaluation is being conducted to identify progress of this program in establishing a cohort of scientists with a high level of research expertise in behavioral research cancer control. A primary objective of this study is to determine if the program's small grants R03 funding mechanism is effective in attracting investigators to the field of behavioral research and if so, what impact does the program have on the career of successful applicants. The findings will provide valuable information regarding (1) effectiveness of the program in attracting investigators to the field; (2) the impact of the program on investigators' careers; and (3) the overall benefit provided by the program through the R03 funding mechanism and assist the agency in determining whether changes to the program are necessary in future.

Frequency of Response: On occasion.

Affected Public: Individuals; teaching institutions or other non-profit.

Type of Respondents: Grantees funded under PAR 99-006 (n=80).

Type of Respondents: Principal Investigator awarded grants funded by PAR 00-006 (Dec. 1999-Nov. 2001).

Estimated Number of Respondents: 80.

Estimated Number of Responses per Respondent: 1.

Average Burden Hours per Response: .75.

Estimated Total Annual Burden Hours Requested: 60.

Type of respondents | Estimated number of respondents | Estimated number of responses per respondent | Average burden per response (in hours) | Total burden (in hours)
Principal Investigators awarded grants funded by PAR 99-006 (Dec. 1999-Nov. 2001) | 80 | 1 | 0.75 | 60.0
Total |  |  |  | 60.0

There is no cost to respondents. There are no Capital Costs to report. There are no Operating or Maintenance Costs to report.

Request for Comments: Written comments and/or suggestions from the public and affected agencies are invited on one or more of the following points: (1) Whether the proposed collection of information is necessary for the proper performance of the functions of the agency, including whether the information will have practical utility; (2) The accuracy of the agency's estimate of the burden of the proposed collection of information, including the validity of the methodology and assumptions used; (3) Ways to enhance the quality, utility, and clarity of the information to be collected; and (4) Ways to minimize the burden of the collection of information on those who are able to respond, including the use of appropriate automated, electronic, mechanical, or other technological collection techniques or other forms of information technology.

FOR FURTHER INFORMATION CONTACT: To request more information on the proposed project or to obtain a copy of the data collection plans and instruments, contact Veroncia Chollette, RN, MS program Director, Applied Cancer Screening Research Branch, Behavioral Research Program Division of Cancer Control and Population Sciences, National Cancer Institute, 6130 Executive Blvd., Room 4100, Rockville, MD 20852 or call non-toll free number (301) 435-2837 or e-mail your request to: vc24a@nih.gov.

Comments Due Date: Comments regarding this information collection are best assured of having their full effect if received within 60 days of the date of this publication.

Dated: August 20, 2004.
Rachelle Ragland-Greene,
NCI Project Clearance Liaison, National Institutes of Health.

[FR Doc. 04-19853 Filed 8-30-04; 8:45 am]

BILLING CODE 4140-01-M